SECURITIES AND EXCHANGE COMMISSION

Issuer Delisting; Notice of Application To Withdraw from Listing and Registration on the Pacific Exchange, Inc. (Leggett & Platt, Inc., Common Stock, $.01 Par Value, and Preferred Stock Purchase Rights) File No. 1-7845

January 31, 2002.

Leggett & Platt, Inc., a Missouri corporation (“Issuer”), has filed an application with the Securities and Exchange Commission (“Commission”), pursuant to Section 12(d) of the Securities Exchange Act of 1934 (“Act”)¹ and Rule 12d2-2(d) thereunder,² to withdraw its Common Stock, $.01 par value, and Preferred Stock Purchase Rights (“Securities”) from listing and registration on the Pacific Exchange, Inc. (“PCX” or “Exchange”).

¹ 15 U.S.C. 78l(d).

² 17 CFR 240.12d2-2(d).

The Board of Directors (“Board”) of the Issuer approved a resolution on November 14, 2001 to withdraw its Securities from listing on the Exchange. The Board cited low trading volume and negligible benefit derived from the Issuer's listing as reasons for delisting its Securities from the PCX. The Issuer will continue to list its Securities on the New York Stock Exchange, Inc. (“NYSE”).

The Issuer has stated in its application that it has met the requirements of PCX Rule 5.4(b) governing an issuer's voluntary withdrawal of a security from listing and registration on the Exchange. The Issuer's application relates solely to the withdrawal of the Securities from listing on the PCX and shall have no affect upon the Securities' continued listing on the NYSE and registration under Section 12(b) of the Act.³

³ 15 U.S.C. 78l(b).

Any interested person may, on or before February 22, 2002, submit by letter to the Secretary of the Securities and Exchange Commission, 450 Fifth Street, NW., Washington, DC 20549-0609, facts bearing upon whether the application has been made in accordance with the rules of the PCX and what terms, if any, should be imposed by the Commission for the protection of investors. The Commission, based on the information submitted to it, will issue an order granting the application after the date mentioned above, unless the Commission determines to order a hearing on the matter.

For the Commission, by the Division of Market Regulation, pursuant to delegated authority.⁴
Jonathan G. Katz,
Secretary.

⁴ 17 CFR 200.30-3(a)(1).

[FR Doc. 02-2864 Filed 2-5-02; 8:45 am]

BILLING CODE 8010-01-P